DEPARTMENT OF HEALTH AND HUMAN SERVICES

National Committee on Vital and Health Statistics: Meeting

Pursuant to the Federal Advisory Committee Act, the Department of Health and Human Services (DHHS) announces the following advisory committee meeting.

Name: National Committee on Vital and Health Statistics (NCVHS), Full Committee Meeting.

Time and Date:February 25, 2009 9 a.m.-3 p.m.; February 26, 2009 10 a.m.-4 p.m.

Place: Hubert H. Humphrey Building, 200 Independence Ave., SW., Room 505A, Washington, DC 20201.

Status: Open.

Purpose: At this meeting the Committee will hear presentations and hold discussions on several health data policy topics. On the morning of the first day the Committee will hear updates from the Department, the Centers for Medicare and Medicaid Services, the American Health Information Community (AHIC-2) Successor, and an update from the Office of the National Coordinator (ONC) on the National Health Information Network (NHIN) Conference. In the afternoon there will be a speaker on the de-identification of health data.

On the morning of the second day the Committee will discuss subcommittee work. There will also be a presentation on international terminology and an update on Health Statistics for the 21st Century. In addition, there will be an update on the work of the National Center for Health Statistics' Board of Scientific Counselors. In the afternoon, the Committee will hear an overview of emerging and innovative sources of health care data.

The times shown above are for the full Committee meeting. Subcommittee breakout sessions can be scheduled for late in the afternoon of the first day and second day and in the morning prior to the full Committee meeting on the second day. Agendas for these breakout sessions will be posted on the NCVHS Web site (URL below) when available.

Contact Person for More Information: Substantive program information as well as summaries of meetings and a roster of committee members may be obtained from Marjorie S. Greenberg, Executive Secretary, NCVHS, National Center for Health Statistics, Centers for Disease Control and Prevention, 3311 Toledo Road, Room 2402, Hyattsville, Maryland 20782, telephone (301) 458-4245. Information also is available on the NCVHS home page of the HHS Web site: http://www.ncvhs.hhs.gov/, where further information including an agenda will be posted when available.

Should you require reasonable accommodation, please contact the CDC Office of Equal Employment Opportunity on (301) 458-4EEO (4336) as soon as possible.

Dated: February 3, 2009.
James Scanlon,
Deputy Assistant Secretary for Science and Data Policy, Office of the Assistant Secretary for Planning and Evaluation.

[FR Doc. E9-2876 Filed 2-10-09; 8:45 am]

BILLING CODE 4151-05-P